DEPARTMENT OF THE INTERIOR

Bureau of Land Management

[LLNMA00000 L12200000.DF0000]

Notice of Public Meeting, Albuquerque Resource Advisory Council Meeting

AGENCY: Bureau of Land Management, Interior.

ACTION: Notice of public meeting.

SUMMARY: In accordance with the Federal Land Policy and Management Act and the Federal Advisory Committee Act of 1972, the U.S. Department of the Interior, Bureau of Land Management, Albuquerque District Resource Advisory Council (RAC), will meet as indicated below.

DATES: The meeting date is June 22, 2012, at the Albuquerque District Office, 435 Montano Rd., NE., Albuquerque, New Mexico 87107. The meeting is scheduled from 9 a.m. to 4 p.m. The public comment period will begin at 3:30 p.m. The public may send written comments to the RAC at the above address. All RAC meetings are open to the public. Depending on the number of individuals wishing to comment and time available, the time for individual oral comments may be limited.

FOR FURTHER INFORMATION CONTACT: Gina Melchor, Albuquerque District Office, 435 Montano Rd., NE., Albuquerque, New Mexico 87107, 505-761-8935. Persons who use a telecommunications device for the deaf (TDD) may call the Federal Information Relay Service (FIRS) at 1-800-877-8229 to contact the above individual during normal business hours. The FIRS is available 24 hours a day, 7 days a week, to leave a message or question with the above individual. You will receive a reply during normal business hours.

SUPPLEMENTARY INFORMATION: The 10-member RAC advises the Secretary of the Interior, through the Bureau of Land Management, on a variety of planning and management issues associated with public land management in New Mexico.

At this meeting, topics include a discussion on the RAC Charter and Operating Procedures, Election of Officers, and presentations from the Socorro and Rio Puerco Field Office Managers.

Edwin J. Singleton,
District Manager.

[FR Doc. 2012-12657 Filed 5-24-12; 8:45 am]

BILLING CODE 4310-AG-P